DEPARTMENT OF HEALTH AND HUMAN SERVICES

National Institutes of Health

Eunice Kennedy Shriver National Institute of Child Health and Human Development; Notice of Closed Meetings

Pursuant to section 10(d) of the Federal Advisory Committee Act, as amended, notice is hereby given of the following meetings.

The meetings will be closed to the public in accordance with the provisions set forth in section 552b(c)(6), Title 5 U.S.C., as amended. The grant applications and the discussions could disclose confidential trade secrets or commercial property such as patentable material, and personal information concerning individuals associated with the grant applications, the disclosure of which would constitute a clearly unwarranted invasion of personal privacy.

Name of Committee: Function, Integration, and Rehabilitation Sciences Study Section.

Date: October 7, 2022.

Closed: 10:00 a.m. to 6:00 p.m.

Agenda: To review and evaluate grant applications.

Place: National Institutes of Health, Eunice Kennedy Shriver National Institute of Child Health and Human Development, 6710B Rockledge Drive, 2125D, Bethesda, MD 20892-7510 (Video Assisted Meeting).

Contact Person: Christiane M. Robbins, Scientific Review Officer, Scientific Review Branch, Eunice Kennedy Shriver National Institute of Child Health and Human Development, National Institutes of Health, 6710B Rockledge Drive, Rm 2125D, Bethesda, MD 20817, (301) 451-4989, crobbins@mail.nih.gov.

Name of Committee: National Institute of Child Health and Human Development Special Emphasis Panel Ruth L. Kirschstein National Research Service Award (NRSA) International Research Training Grant (Parent T32).

Date: October 18-19, 2022.

Closed: 9:00 a.m. to 6:00 p.m.

Agenda: To review and evaluate grant applications.

Place: Marriott North Conference Center, 5701 Marinelli Rd, North Bethesda, MD 20852.

Contact Person: Christiane M. Robbins, Scientific Review Officer, Scientific Review Branch, Eunice Kennedy Shriver National Institute of Child Health and Human Development, NIH, DHHS, 6710B Rockledge Drive, Rm 2125D, Bethesda, MD 20817, (301) 451-4989, crobbins@mail.nih.gov.

(Catalogue of Federal Domestic Assistance Program Nos. 93.865, Research for Mothers and Children, National Institutes of Health, HHS)

Dated: September 13, 2022.
David W. Freeman,
Program Analyst, Office of Federal Advisory Committee Policy.

[FR Doc. 2022-20094 Filed 9-15-22; 8:45 am]

BILLING CODE 4140-01-P